DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Regional Ocean Council Information Social Network Analysis.

OMB Control Number: None.

Form Number(s): None.

Type of Request: Regular submission (New information collection).

Number of Respondents: 45.

Average Hours per Response: 10 minutes.

Burden Hours: 8.

Needs and Uses: The Northeast Regional Ocean Council (NROC) is a State and Federal partnership with the goal of engaging in regional protection, and balanced use, of ocean and coastal resources. NROC's coordinated approach reaches across state boundaries to find and implement solutions to the region's most pressing ocean and coastal issues. NROC's membership includes New England coastal state agencies and federal agencies. The work of the Council focuses primarily on coastal hazards resilience and ocean energy planning and management. NROC's members come from varied expertise and work on these issues in many capacities. A social network analysis will serve to identify the network of people working on NROC's key issues, both within and outside of the organization. NROC members will voluntary complete a survey regarding their communications on NROC issues and value derived from membership. The resulting information can be used to evaluate the efficiency of the network, where gaps may exist, and to suggest additional partnerships that would benefit the Council's work. This collection of information supports the intent of the Coastal Zone Management Act, 16 U.S.C 1451 et seq.

Affected Public: State, local or tribal governments.

Frequency: One time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 29, 2010.
Gwellnar Banks,
Management Analyst, Office of the Chief Information Officer.

[FR Doc. 2010-16297 Filed 7-2-10; 8:45 am]

BILLING CODE 3510-08-P